DEPARTMENT OF HEALTH AND HUMAN SERVICES

Centers for Disease Control and Prevention

[60Day-20-20QO; Docket No. CDC-2020-0084]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Pilot Implementation of the Violence Against Children and Youth Survey (VACS) in the United States.” This study is designed to conduct a pilot implementation of the Violence Against Children and Youth Survey (VACS) in the United States, which CDC has conducted in 24 countries globally.

DATES: CDC must receive written comments on or before September 28, 2020.

ADDRESSES: You may submit comments, identified by Docket No. CDC-2020-0084 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including using appropriate automated, electronic, mechanical, or other technological collection techniques or other forms of information technology, e.g., permitting electronic submissions of responses.

5. Assess information collection costs.

Proposed Project

Pilot Implementation of the Violence Against Children and Youth Survey (VACS) in the United States—New—National Center for Injury Prevention and Control (NCIPC), Centers for Disease Control and Prevention (CDC).

Background and Brief Description

Violence against children is a global human rights violation that spans every country worldwide and affects a billion children each year. In the U.S., many youths are the victims of multiple forms of violence and abuse. An estimated 10 million children in the U.S. have experienced child abuse and neglect. Each day, about a dozen youth are victims of homicide and more than 100 times that number (~1,400) are treated annually in emergency rooms for physical assault injuries. Youth are also involved in high levels of peer violence, which is one of the leading causes of death for people ages 10-24. A body of research has shown that the impact of violence against children goes far beyond the initial incident, and that those who have experienced emotional, physical, and sexual violence can experience severe short to long-term health and social consequences. Given the serious and lasting impact on children, it is critical to understand the magnitude and nature of violence against children in order to develop effective prevention and response strategies. Currently, data to guide state and local violence prevention and response efforts in the U.S. are quite limited. While some studies have provided information on the risks and impact on violence against children, they are mostly limited in scale and cannot be generalized to the scope of violence against youth across the U.S. or for specific regions.

VACS is a methodology which CDC has conducted in 24 countries globally to measure the magnitude of physical, sexual, and emotional violence against children as well as associated risk and protective factors. VACS have contributed to research throughout the world, demonstrating the high prevalence of violence against children in a variety of countries and cultures, and have proven to be critical tools that can fill data gaps in ways that are vital to informing strategic planning and evidence-based public health efforts in many countries. However, VACS have not been implemented in the U.S., and the existing representative datasets of violence against youth in the U.S. have significant limitations that prevent the data from being actionable for prevention planning by public health departments at the local level. VACS in the U.S. will help fill this gap with rigorous probability-based estimates of the problem of youth violence combined with an internationally tested approach to embed the VACS survey into the local strategic planning process of local public health partners.

The present project will implement a pilot testing for the adapted VACS survey and methodology in two contexts: (1) A representative sample of 13-24 year old youth in Baltimore and (2) a convenience sample of 13-24 year old youth in rural Garrett County, Maryland to test the VACS in-person methodology in a rural location. The proposed study will pilot test the adaptation of the VACS for use in a domestic context, using a representative sample of youth in urban Baltimore and a convenience sample of youth in rural Garrett County, Maryland. Data will be collected through in-person probability-based household surveys, which will be conducted using a combination of interviewer-administration and Audio Computer-Assisted Self-Interview Software on tablets. Data will be analyzed using statistical software to account for the complexity of the survey design to compute weighted counts, percentages, and confidence intervals using probability-based survey data at the local level. The findings from this pilot study will be used primarily to better understand the feasibility and effectiveness of implementing VACS in the U.S., which will ultimately determine the magnitude of violence against children and underlying risk and protective factors in order to make recommendations to national and international agencies and non-governmental organizations on developing strategies to identify, treat and prevent violence against children.

The total estimated annualized burden hours are 800. There are no costs to respondents other than their time.

Estimated Annualized Burden Hours
Type of respondents | Data collection | Number of respondents | Number of responses per respondent | Average burden per response (in hours) | Total burden (in hours)
Head of Household | Invitation letter | 2983 | 1 | 2/60 | 100
| Screener Questionnaire | 2721 | 1 | 3/60 | 135
| Head of Household Consent Form | 634 | 1 | 2/60 | 22
| Head of Household Questionnaire | 608 | 1 | 15/60 | 152
Youth ages 13-24 in Baltimore or Garrett County, Maryland | Youth participant consent/assent | 608 | 1 | 3/60 | 31
| Core Youth Participant Questionnaire for male | 180 | 1 | 1 | 180
| Core Youth Participant Questionnaire for female | 180 | 1 | 1 | 180
Total: |  |  |  |  | 800

Jeffrey M. Zirger,
Lead, Information Collection Review Office, Office of Scientific Integrity, Office of Science, Centers for Disease Control and Prevention.

[FR Doc. 2020-16259 Filed 7-27-20; 8:45 am]

BILLING CODE 4163-18-P